FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 15, 2010.

A. Federal Reserve Bank of St. Louis (Glenda Wilson, Community Affairs Officer) P.O. Box 442, St. Louis, Missouri 63166-2034:

1. Todd C. Green, individually to become the largest shareholder, and as member of the Green Family Control Group, which consists of Todd C. Green; Ramon J. Green, as trustee of the Ramon J. Green Trust No. 11-01 U/A dated November 26, 2001; and as co-trustee of the Beverly J. Green Trust No. 11-01 U/A dated November 26, 2001; Beverly J. Green, all in Springfield, Illinois, as co-trustee of the Beverly J. Green Trust No. 11-01 U/A dated November 26, 2001; Jeffrey J. Green, Peoria, Illinois; Jill A. Green, East Moline, Illinois, as trustee of the Jill A. Green Trust U/A dated April, 6, 2001; Gail A. Green, Peoria, Illinois, as trustee of the Gail A. Green Trust UTA dated March 23, 2009, and Green Enterprises, LP, Springfield, Illinois; to retain control of West Plains Investors, Inc., and thereby indirectly retain voting shares of Premier Bank of Jacksonville, both in Jacksonville, Illinois.

B. Federal Reserve Bank of Kansas City (Dennis Denney, Assistant Vice President) 1 Memorial Drive, Kansas City, Missouri 64198-0001:

1. Christopher Key Jordan and Crystal Lynn Jordan, both in Stigler, Oklahoma, as trustees of the Christopher Key Jordan 2008 Trust; and Kelly Dawn Jordan-Davis and Steven Scott Davis, both in Indianola, Oklahoma, as trustees of the Kelly Dawn Jordan-Davis 2008 Trust; to acquire voting shares of F.S.B. Properties, Inc., and thereby indirectly acquire voting shares of Farmers State Bank, both in Quinton, Oklahoma.

Board of Governors of the Federal Reserve System, May 25, 2010.
Robert deV. Frierson,
Deputy Secretary of the Board.

[FR Doc. 2010-12914 Filed 5-27-10; 8:45 am]

BILLING CODE 6210-01-S